DEPARTMENT OF TRANSPORTATION

Federal Highway Administration

Buy America Waiver Notification

AGENCY: Federal Highway Administration (FHWA), DOT.

ACTION: Notice.

SUMMARY: This notice provides information regarding the FHWA's finding that a Buy America waiver is appropriate for the span lock linear electric actuators used in rehabilitation of the Robert Moses causeway NB and SB structures in New York.

DATES: The effective date of the waiver is March 18, 2009.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's findings that a Buy America waiver is appropriate for a span lock linear electric actuator in the State of New York.

In accordance with section 130 of Division K of the “Consolidated Appropriations Act, 2008'' (Pub. L. 110-161), the FHWA published on its Web site a notice of intent to issue a Buy America waiver for the span lock linear electric actuator in New York http://www.fhwa.dot.gov/construction/contracts/waivers.cfm?id=28 on February 4. The FHWA received one comment in response to the span lock linear electric actuator. The comment was “Buy America needs to be maintained in every instance possible.'' During the 15-day comment period, the FHWA conducted an additional nationwide review to locate potential domestic manufacturers for the product. Based on all the information available to the agency, including the response received to the notice as well as the Agency's nationwide review, the FHWA concludes that there are no domestic manufacturers for the span lock linear electric actuator.

In accordance with the provisions of section 117 of the “SAFETEA-LU Technical Corrections Act of 2008'' (Pub. L. 110-244, 122 Stat. 1572), the FHWA is providing this notice as its finding that a waiver of the Buy America requirements is appropriate pursuant to 23 CFR 635.410(c)(1). The FHWA invites public comment on this finding for an additional 15 days following the effective date of the finding. Comments may be submitted to the FHWA's Web site via the link provided to the New York waiver page noted above.

(Authority: 23 U.S.C. 313; Pub. L. 110-161, 23 CFR 635.410.)

Issued on: March 9, 2009.
Jeffrey F. Paniati,
Acting Deputy Administrator, Federal Highway Administration.

[FR Doc. E9-5752 Filed 3-16-09; 8:45 am]

BILLING CODE 4910-22-P